POSTAL SERVICE

Transfer of Post Office Box Section 21412 to Competitive Fee Group

AGENCY: Postal Service™.

ACTION: Notice.

SUMMARY: The Postal Service hereby provides notice that Post Office® Box service for ZIP Code® 21412 is reassigned from its market dominant fee group to a competitive fee group.

DATES: Effective date: September 19, 2013.

FOR FURTHER INFORMATION CONTACT: Direct questions or comments to: Frank Ippolito (frank.p.ippolito@usps.gov), 202-268-4681; or David Rubin (david.h.rubin@usps.gov), 202-268-2986.

SUPPLEMENTARY INFORMATION: Locations providing Post Office Box service are assigned to fee groups and classified as competitive or market dominant based upon the Post Office location and other criteria.

In May 2011, a Request of the United States Postal Service was filed with the Postal Regulatory Commission (PRC) to transfer approximately 6,800 P.O. Box locations from market dominant to competitive fee groups. At that time, the Postal Service advised the PRC that a Federal Register notice would be filed when any future P.O. Box locations are transferred.

While the Naval Academy was excluded from the initial PRC filing due to a lack of public access, the customers at that location have a competitive choice. The U.S. Naval Academy (USNA), Box Section ZIP 21412 facility, in Annapolis, Maryland, serves approximately 4,701 P.O. Box customers, and the location meets the criteria to be classified as and assigned to a competitive fee group. Therefore, the Postal Service has reassigned USNA Box Section ZIP 21412 from Market Dominant Fee Group 3 to Competitive Fee Group 35.

Documents pertinent to this request are available at www.prc.gov, Docket No. MC2011-25.

Stanley F. Mires,
Attorney, Legal Policy & Legislative Advice.

[FR Doc. 2013-23978 Filed 10-1-13; 8:45 am]

BILLING CODE 7710-12-P